DEPARTMENT OF THE TREASURY

Office of Foreign Assets Control

31 CFR Part 589

Publication of Ukraine-/Russia-Related Web General Licenses 13Q and 13R

AGENCY: Office of Foreign Assets Control, Treasury.

ACTION: Publication of Web General Licenses.

SUMMARY: The Department of the Treasury's Office of Foreign Assets Control (OFAC) is publishing two general licenses (GLs) issued in the Ukraine-/Russia-related sanctions program: GL 13Q, which was previously issued on OFAC's website and is now expired, and GL 13R, which was also previously issued on OFAC's website and had an expiration date of May 25, 2022.

DATES: GL 13R was issued on April 25, 2022. See SUPPLEMENTARY INFORMATION of this rule for additional relevant dates.

FOR FURTHER INFORMATION CONTACT: OFAC: Assistant Director for Licensing, 202-622-2480; Assistant Director for Regulatory Affairs, 202-622-4855; or Assistant Director for Sanctions Compliance & Evaluation, 202-622-2490.

SUPPLEMENTARY INFORMATION:

Electronic Availability

This document and additional information concerning OFAC are available on OFAC's website: www.treas.gov/ofac.

Background

OFAC issued GL 13 on April 6, 2018 to authorize certain transactions necessary to divest or transfer debt, equity, or other holdings in certain entities, including GAZ Group, otherwise prohibited by the Ukraine Related Sanctions Regulations, 31 CFR part 589 (which have since been renamed the Ukraine-/Russia-Related Sanctions Regulations). At the time of issuance, OFAC made GL 13, which had an expiration date of May 7, 2018, available on its website (www.treas.gov/ofac). Subsequently, OFAC issued further iterations of GL 13, all of which were available on OFAC's website. OFAC published GLs 13 through 13P in the Federal Register on July 28, 2021 (86 FR 40316, July 28, 2021).

On January 24, 2022, OFAC issued GL 13Q, replacing and superseding GL 13P. GL 13Q had an expiration date of April 27, 2022. On April 25, 2022, OFAC issued GL 13R, replacing and superseding GL 13Q. GL 13R had an expiration date of May 25, 2022. The text of GLs 13Q and 13R is provided below.

OFFICE OF FOREIGN ASSETS CONTROL

Ukraine Related Sanctions Regulations 31 CFR Part 589

GENERAL LICENSE NO. 13Q

Authorizing Certain Transactions Necessary To Divest or Transfer Debt, Equity, or Other Holdings in GAZ Group

(a) Except as provided in paragraph (d) of this general license, all transactions and activities otherwise prohibited by the Ukraine Related Sanctions Regulations, 31 CFR part 589 (URSR), that are ordinarily incident and necessary (1) to divest or transfer debt, equity, or other holdings in GAZ Group to a non-U.S. person, or (2) to facilitate the transfer of debt, equity, or other holdings in GAZ Group by a non-U.S. person to another non-U.S. person, are authorized through 12:01 a.m. eastern daylight time, April 27, 2022.

(b) Except as provided in paragraph (d) of this general license, all transactions and activities otherwise prohibited by the URSR that are ordinarily incident and necessary (1) to divest or transfer debt, equity, or other holdings in GAZ Group, or in entities in which GAZ Group owns, directly or indirectly, a 50 percent or greater interest, that were issued by GAZ Auto Plant (hereinafter, “Other Issuer Holdings”), to a non-U.S. person; or (2) to facilitate the transfer of Other Issuer Holdings by a non-U.S. person to another non-U.S. person, are authorized through 12:01 a.m. eastern daylight time, April 27, 2022.

(c) The transactions and activities authorized in paragraphs (a) and (b) include facilitating, clearing, and settling transactions to divest to a non-U.S. person debt, equity, or other holdings in GAZ Group, or Other Issuer Holdings as described in paragraph (b), including on behalf of U.S. persons.

(d) This general license does not authorize:

(1) The unblocking of any property blocked pursuant to any other part of 31 CFR chapter V;

(2) U.S. persons to sell debt, equity, or other holdings to; to purchase or invest in debt, equity, or other holdings in; or to facilitate such transactions with, directly or indirectly, any person whose property and interests in property are blocked pursuant to 31 CFR part 589, including GAZ Group, other than purchases of or investments in debt, equity, or other holdings in those persons, or Other Issuer Holdings as described in paragraph (b) (including settlement of purchases or sales that were pending on April 6, 2018), that are ordinarily incident and necessary to the divestment or transfer of debt, equity, or other holdings in GAZ Group, or Other Issuer Holdings as described in paragraph (b);

(3) Any transactions or dealings involving the property or interests in property of any person whose property and interests in property are blocked pursuant to 31 CFR part 589 other than GAZ Group, or any entity in which GAZ Group has a 50 percent or greater interest consistent with the authorization in paragraph (b) of this general license; or

(4) Any transactions or dealings otherwise prohibited by any other part of 31 CFR chapter V.

(e) U.S. persons participating in transactions authorized by this general license are required, within 10 business days after the expiration date of this general license, to file a comprehensive, detailed report of each transaction, including the names and addresses of parties involved, the type and scope of activities conducted, and the dates on which the activities occurred, with the Office of Foreign Assets Control, Office of Compliance and Enforcement, U.S. Department of the Treasury, 1500 Pennsylvania Avenue NW, Freedman's Bank Building, Washington, DC 20220, or via email (preferred) to OFACReport@treasury.gov.

(f) Effective January 24, 2022, General License No. 13P, dated December 23, 2020, is replaced and superseded in its entirety by this General License No. 13Q.

Andrea M. Gacki,

Director, Office of Foreign Assets Control.

Dated: January 24, 2022.

OFFICE OF FOREIGN ASSETS CONTROL

Ukraine Related Sanctions Regulations 31 CFR Part 589

GENERAL LICENSE NO. 13R

Authorizing the Wind Down of Certain Transactions Necessary To Divest or Transfer Debt, Equity, or Other Holdings in GAZ Group

(a) Except as provided in paragraph (d) of this general license, all transactions and activities otherwise prohibited by the Ukraine Related Sanctions Regulations, 31 CFR part 589 (URSR), that are ordinarily incident and necessary (1) to divest or transfer debt, equity, or other holdings in GAZ Group to a non-U.S. person, or (2) to facilitate the transfer of debt, equity, or other holdings in GAZ Group by a non-U.S. person to another non-U.S. person, are authorized through 12:01 a.m. eastern daylight time, May 25, 2022.

(b) Except as provided in paragraph (d) of this general license, all transactions and activities otherwise prohibited by the URSR that are ordinarily incident and necessary to (1) divest or transfer debt, equity, or other holdings in GAZ Group, or in entities in which GAZ Group owns, directly or indirectly, a 50 percent or greater interest, that were issued by GAZ Auto Plant (hereinafter, “Other Issuer Holdings”), to a non-U.S. person; or (2) facilitate the transfer of Other Issuer Holdings by a non-U.S. person to another non-U.S. person, are authorized through 12:01 a.m. eastern daylight time, May 25, 2022.

(c) The transactions and activities authorized in paragraphs (a) and (b) include facilitating, clearing, and settling transactions to divest to a non-U.S. person debt, equity, or other holdings in GAZ Group, or Other Issuer Holdings as described in paragraph (b), including on behalf of U.S. persons.

(d) This general license does not authorize:

(1) The unblocking of any property blocked pursuant to any other part of 31 CFR chapter V;

(2) U.S. persons to sell debt, equity, or other holdings to; to purchase or invest in debt, equity, or other holdings in; or to facilitate such transactions with, directly or indirectly, any person whose property and interests in property are blocked pursuant to 31 CFR part 589, including GAZ Group, other than purchases of or investments in debt, equity, or other holdings in those persons, or Other Issuer Holdings as described in paragraph (b) (including settlement of purchases or sales that were pending on April 6, 2018), that are ordinarily incident and necessary to the divestment or transfer of debt, equity, or other holdings in GAZ Group, or Other Issuer Holdings as described in paragraph (b);

(3) Any transactions or dealings involving the property or interests in property of any person whose property and interests in property are blocked pursuant to 31 CFR part 589 other than GAZ Group, or any entity in which GAZ Group has a 50 percent or greater interest consistent with the authorization in paragraph (b) of this general license; or

(4) Any transactions or dealings otherwise prohibited by any other part of 31 CFR chapter V.

(e) U.S. persons participating in transactions authorized by this general license are required, within 10 business days after the expiration date of this general license, to file a comprehensive, detailed report of each transaction, including the names and addresses of parties involved, the type and scope of activities conducted, and the dates on which the activities occurred, with the Office of Foreign Assets Control, Office of Compliance and Enforcement, U.S. Department of the Treasury, 1500 Pennsylvania Avenue NW, Freedman's Bank Building, Washington, DC 20220, or via email (preferred) to OFACReport@treasury.gov.

(f) Effective April 25, 2022, General License No. 13Q, dated January 24, 2022, is replaced and superseded in its entirety by this General License No. 13R.

Andrea M. Gacki

Director, Office of Foreign Assets Control.

Dated: April 25, 2022.

Andrea M. Gacki,
Director, Office of Foreign Assets Control

[FR Doc. 2022-11473 Filed 5-26-22; 8:45 am]

BILLING CODE 4810-AL-P